DEPARTMENT OF HOMELAND SECURITY

Coast Guard

33 CFR Part 117

[Docket No. USCG-2012-0724]

Drawbridge Operation Regulations; Cheesequake Creek, Morgan, South Amboy, NJ

AGENCY: Coast Guard, DHS.

ACTION: Notice of temporary deviation from regulations.

SUMMARY: The Commander, First Coast Guard District, has issued a temporary deviation from the regulation governing the operation of the Route 35 Bridge across Cheesequake Creek, mile 0.0, at Morgan, South Amboy, New Jersey. The deviation allows the bridge to remain in the closed position for an hour and a half to facilitate a public event, the Rolling Thunder Freedom Ride.

DATES: This deviation is effective from 12 p.m. through 1:30 p.m. on September 16, 2012.

ADDRESSES: Documents mentioned in this preamble as being available in the docket are part of docket USCG-2012-0724 and are available online at www.regulations.gov, inserting USCG-2012-0724 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

SUPPLEMENTARY INFORMATION: The Route 35 Bridge, across the Cheesequake Creek at mile 0.0, at Morgan, South Amboy, New Jersey, has a vertical clearance in the closed position of 25 feet at mean high water and 30 feet at mean low water. The drawbridge operation regulations are listed at 33 CFR 117.709.

The Coast Guard received a request from the owner of the bridge, New Jersey Department of Transportation, to allow the bridge to remain in the closed position for an hour and a half, 12 p.m. through 1:30 p.m., on September 16, 2012, to facilitate the Rolling Thunder Freedom Ride, public event.

Vessels that can pass under the draw in the closed position may do so at all times. There are no alternate routes available for vessel traffic. The bridge can be opened in the event of an emergency.

Under this temporary deviation the Route 35 Bridge may remain in the closed position between 12 p.m. and 1:30 p.m. on September 16, 2012.

In accordance with 33 CFR 117.35(e), the bridge must return to its regular operating schedule immediately at the end of the designated time period. This deviation from the operating regulations is authorized under 33 CFR 117.35.

Dated: July 31, 2012.
Gary Kassof,
Bridge Program Manager, First Coast Guard District.

[FR Doc. 2012-19481 Filed 8-8-12; 8:45 am]

BILLING CODE 9110-04-P